DEPARTMENT OF ENERGY

Federal Energy Regulatory Commission

[Docket No. CP03-80-000]

Eastern Shore Natural Gas Company; Notice of Intent To Prepare an Environmental Assessment for the Proposed 2003-2005 System Expansion Project and Request for Comments on Environmental Issues

May 27, 2003.

The staff of the Federal Energy Regulatory Commission (FERC or Commission) will prepare an environmental assessment (EA) that will discuss the environmental impacts of the 2003-2005 System Expansion Project involving construction and operation of natural gas pipeline facilities by Eastern Shore Natural Gas Company (Eastern Shore) in Chester County, Pennsylvania and New Castle County, Delaware.¹ These facilities consist of about 5.7 miles of 16-inch-diameter loop,² modification to an existing meter station, and construction of a new pressure regulator. Construction would be done in three phases from the fall of 2003 through 2005. The EA will be used by the Commission in its decision-making process to determine whether the project is in the public convenience and necessity.

¹ Eastern Shores's application was filed with the Commission on April 1, 2003, under section 7 of the Natural Gas Act and part 157 of the Commission's regulations.

² A loop is a segment of pipeline that is installed adjacent to an existing pipeline and connected to it on both ends. The loop allows more gas to be moved through the pipeline system.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law. A fact sheet prepared by the FERC entitled “An Interstate Natural Gas Facility On My Land? What Do I Need To Know?” was attached to the project notice Eastern Shore provided to landowners. This fact sheet addresses a number of typically asked questions, including the use of eminent domain and how to participate in the Commission's proceedings. It is available for viewing on the FERC Internet Web site (http://www.ferc.gov).

Summary of the Proposed Project

Eastern Shore proposes to increase the capacity of its facilities in Southeastern Pennsylvania and Delaware to supply increased quantities of natural gas to existing local distribution customers. This project would allow Eastern Shore to deliver an additional 15,100 Dekatherms per day (Dt/d) of gas to these customers.

Eastern Shore proposes to construct the project in three phases. Phase I would upgrade the Parkesburg Meter Station and increase capacity 3,800 Dt/d. Phase II, constructed in 2004, would consist of 2.7 miles of 16-inch-diameter loop in Chester County, Pennsylvania and would supply an additional 4,700 Dt/d. Phase III, constructed in 2005, would consist of 3.0 miles of 16-inch-diameter loop and a pressure regulator supplying an additional 6,600 Dt/d.

The general location of Eastern Shore's proposed facilities is shown on the maps attached as appendix 1.³

³ The appendices referenced in this notice are not being printed in the Federal Register. Copies are available on the Commission's Web site at the “RIMS” link or from the Commission's Public Reference and Files Maintenance Branch, 888 First Street, NE., Room 2A, Washington, DC 20426, or call (202) 208-1371. For instructions on connecting to RIMS refer to the last page of this notice. Copies of the appendices were sent to all those receiving this notice in the mail.

Land Requirements for Construction

Construction of Eastern Shore's proposed facilities would require about 51.3 acres of land, including construction right-of-way for the loops, the meter station, and extra work areas needed for pipe storage yards, staging areas, and warehouse sites. The majority of the loops would be constructed directly adjacent to Eastern Shore's existing rights-of-way. For the construction of the loops, Eastern Shore proposes to use a 75-foot-wide construction right-of-way, which includes a 35-foot overlap of the existing right-of-way for workspace and temporary spoil storage. About 22.2 acres would be maintained as permanent right-of-way. Construction access to Eastern Shore's project generally would use the construction right-of-way and existing road network.

The EA Process

The National Environmental Policy Act (NEPA) requires the Commission to take into account the environmental impacts that could result from an action whenever it considers the issuance of a Certificate of Public Convenience and Necessity. NEPA also requires us ⁴ to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, “us”, and “our”, refer to the environmental staff of the Office of Energy Projects (OEP).

The EA will discuss impacts that could occur as a result of the construction and operation of the proposed project under these general headings:

• Geology and soils

• Water resources and wetlands

• Vegetation and wildlife

• Threatened and endangered species

• Cultural resources

• Land use

• Reliability and safety

We will evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 8.

Currently Identified Environmental Issues

We have already identified several issues that we think deserve attention based on a preliminary review of the proposed facilities and the environmental information provided by Eastern Shore. This preliminary list of issues may be changed based on your comments and our analysis.

• Resources and Wetlands

—Crossing 8 perennial waterbodies.

—Crossing 15 wetlands, including 0.6 acres of forested wetlands.

• Vegetation

—Clearing 3.8 acres of upland forest.

• Threatened and Endangered Species

—One Federally-listed amphibian specie.

• Land Use

—33 residences located within 50 feet of the construction work area.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

Send an original and two copies of your letter to: Magalie R. Salas, Secretary, Federal Energy Regulatory Commission, 888 First St., NE., Room 1A, Washington, DC 20426; Label one copy of the comments for the attention of Gas Branch 1; Reference Docket No. CP03-80-000; and Mail your comments so that they will be received in Washington, DC on or before June 27, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA the Internet in lieu of paper. See the previous discussion on filing comments electronically.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

In addition, the Commission now offers a free service called eSubscription which allows you too keep track of all formal issuances and submittals in specific dockets. This can reduce the amount of time you spend researching proceedings by automatically providing you with notification of these filings, document summaries and direct links to the documents. Go to http://www.ferc.gov/esubscribenow.htm.

Magalie R. Salas,
Secretary.

[FR Doc. 03-13738 Filed 6-2-03; 8:45 am]

BILLING CODE 6717-01-P